DEPARTMENT OF TRANSPORTATION

Surface Transportation Board

[Docket No. AB 33 (Sub-No. 277X); Docket No. AB 318 (Sub-No. 7X)]

Union Pacific Railroad Company—Abandonment Exemption—in Lafourche Parish, LA; Louisiana & Delta Railroad, Inc.—Discontinuance of Service Exemption—in Lafourche Parish, LA

Union Pacific Railroad Company (UP) and Louisiana & Delta Railroad, Inc. (LDRR) (collectively, applicants) jointly have filed a verified notice of exemption under 49 CFR part 1152 subpart F—Exempt Abandonments and Discontinuances of Service for UP to abandon and LDRR to discontinue service over a portion of a line of railroad known as the Lockport Branch, extending between milepost 1.7 near Raceland and milepost 14.2 near Jay, a distance of 12.5 miles, in Lafourche Parish, La.¹ The line traverses United States Postal Service Zip Codes 70374 and 70394.

¹ Applicants originally filed their notice of exemption on September 29, 2011. However, in a decision served on October 19, 2011, these proceedings were held in abeyance until October 25, 2011. Accordingly, October 25, 2011, will be considered the filing date for purposes of determining relevant deadlines.

Applicants have certified that: (1) No local traffic has moved over the line for at least 2 years; (2) no overhead traffic has moved over the line for at least 2 years; and (3) no formal complaint filed by a user of rail service on the line (or state or local agency acting on behalf of such user) regarding cessation of service over the line either is pending with the Surface Transportation Board (Board) or with any U.S. District Court or has been decided in favor of complainant within the 2-year period. Applicants have further certified that the requirements at 49 CFR 1105.7(c) (environmental report), 49 CFR 1105.11 (transmittal letter), 49 CFR 1105.12 (newspaper publication), and 49 CFR 1152.50(d)(1) (notice to governmental agencies) have been met.

As a condition to these exemptions, any employee adversely affected by the abandonment or discontinuance shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received, these exemptions will be effective on December 14, 2011, unless stayed pending reconsideration.² Petitions to stay that do not involve environmental issues,³ formal expressions of intent to file an OFA under 49 CFR 1152.27(c)(2),⁴ and trail use/rail banking requests under 49 CFR 1152.29 must be filed by November 25, 2011. Petitions to reopen or requests for public use conditions under 49 CFR 1152.28 must be filed by December 5, 2011,⁵ with the Surface Transportation Board, 395 E Street SW., Washington, DC 20423-0001.

² Applicants originally had indicated a proposed consummation date of November 18, 2011. However, because the proceedings were held in abeyance, the earliest these transactions may be consummated is December 14, 2011. See 49 CFR 1152.50(d)(2).

³ The Board will grant a stay if an informed decision on environmental issues (whether raised by a party or by the Board's Office of Environmental Analysis (OEA) in its independent investigation) cannot be made before the exemptions' effective date. See Exemption of Out-of-Serv. Rail Lines, 5 I.C.C.2d 377 (1989). Any request for a stay should be filed as soon as possible so that the Board may take appropriate action before the exemptions' effective date.

⁴ Each OFA must be accompanied by the filing fee, which is currently set at $1,500. See 49 CFR 1002.2(f)(25).

⁵ Applicants state that they do not believe that the right-of-way is suitable for other public purposes, given the availability of other infrastructure in the area. They note that the line contains reversionary property interests which could affect the transfer of title or use of the property for other than railroad purposes.

A copy of any petition filed with the Board should be sent to applicants' representatives: Mack H. Shumate, Jr., Senior General Attorney, Union Pacific Railroad Company, 101 North Wacker Drive, #1920, Chicago, IL 60606, and Eric M. Hocky, Thorp Reed & Armstrong, LLP, One Commerce Square, 2005 Market Street, Suite 1000, Philadelphia, PA 19103.

If the verified notice contains false or misleading information, the exemption is void ab initio.

Applicants have filed a combined environmental and historic report that addresses the effects, if any, of the abandonment and discontinuance on the environment and historic resources. OEA will issue an environmental assessment (EA) by November 18, 2011. Interested persons may obtain a copy of the EA by writing to OEA (Room 1100, Surface Transportation Board, 395 E Street SW., Washington, DC 20423-0001) or by calling OEA at (202) 245-0305. Assistance for the hearing impaired is available through the Federal Information Relay Service (FIRS) at 1-(800) 877-8339. Comments on environmental and historic preservation matters must be filed within 15 days after the EA becomes available to the public.

Environmental, historic preservation, public use, or trail use/rail banking conditions will be imposed, where appropriate, in a subsequent decision.

Pursuant to 49 CFR 1152.29(e)(2), UP shall file a notice of consummation with the Board to signify that it has exercised the authority granted and fully abandoned the line. If consummation has not been effected by UP's filing of a notice of consummation by November 14, 2012, and there are no legal or regulatory barriers to consummation, the authority to abandon will automatically expire.

Board decisions and notices are available on our Web site at “http://www.stb.dot.gov.”

Decided: November 4, 2011.
By the Board, Rachel D. Campbell, Director, Office of Proceedings.
Jeffrey Herzig,
Clearance Clerk.

[FR Doc. 2011-29131 Filed 11-10-11; 8:45 am]

BILLING CODE 4915-01-P